DEPARTMENT OF AGRICULTURE

Office of the Secretary

7 CFR Part 9

[Docket ID: FSA-2020-0004]

RIN 0503-AA65

Coronavirus Food Assistance Program; Correction

AGENCY: Office of the Secretary, USDA.

ACTION: Correcting amendments.

SUMMARY: The Secretary of Agriculture implemented the Coronavirus Food Assistance Program (CFAP), which provides assistance to agricultural producers impacted by the effects of the COVID-19 outbreak, through a final rule published in the Federal Register on May 21, 2020. This correction clarifies the eligibility of barley and livestock.

DATES: Effective September 21, 2020.

FOR FURTHER INFORMATION CONTACT: William L. Beam; telephone: (202) 720-3175; email: Bill.Beam@usda.gov. Persons with disabilities who require alternative means for communication should contact the USDA Target Center at (202) 720-2600 (voice).

SUPPLEMENTARY INFORMATION: This document corrects the CFAP regulations in 7 CFR part 9, which were implemented in the final rule that was published in the Federal Register on May 21, 2020 (85 FR 30825-30835). This is the fourth set of corrections. The first set of corrections was published in the Federal Register on June 12, 2020 (85 FR 35799-35800), the second set of corrections was published in the Federal Register on July 10, 2020 (85 FR 41328-41330), and the third set of corrections was published in the Federal Register on August 14, 2020 (85 FR 49593-49594). This document augments those corrections.

This document corrects 7 CFR 9.1(a) to clarify the meaning of “produced in the United States” as it relates to imported livestock. CFAP payments to livestock producers are based on the sum of two calculations. The first calculation is intended to compensate producers for losses due to price declines that occurred between mid-January 2020 and mid-April 2020, and is based on livestock sold between January 15, 2020, and April 15, 2020. The second calculation is intended to address on-going market disruptions and assist with the transition to a more orderly marketing system. It is based on the producer's highest livestock inventory owned on a date between April 16, 2020, and May 14, 2020. This document specifies that to be considered “produced in the United States,” livestock sold between January 15, 2020, and April 15, 2020, must have been physically located in the United States as of January 15, 2020, and must have remained in the United States until they were sold. For imported livestock inventory owned between April 16, 2020, and May 14, 2020, “produced in the United States” means that the livestock must have been physically located in the United States on the applicable date for which the producer is reporting their highest owned inventory, because producers have been incurring and continue to incur additional marketing costs related to the COVID-19 pandemic for those livestock.

This document amends the definition of “non-specialty crop” in § 9.2 and Table 2 in § 9.5(h) to specify that CFAP eligibility for barley is not limited only to malting barley. All barley is eligible for CFAP assistance.

The changes in this document are consistent with the original intent of USDA in creating and administering CFAP and are not expected to increase expected costs.

List of Subjects in 7 CFR Part 9

Agricultural commodities, Agriculture, Disaster assistance, Indemnity payments.

Accordingly, 7 CFR part 9 is corrected by making the following correcting amendments:

PART 9—CORONAVIRUS FOOD ASSISTANCE PROGRAM

1. The authority citation for part 9 continues to read as follows:

Authority: 15 U.S.C. 714b and 714c; and Division B, Title I, Pub. L. 116-136.

2. In § 9.1, revise paragraph (a) to read as follows.

§ 9.1 Applicability and administration.

(a) This part specifies the eligibility requirements and payment calculations for the Coronavirus Food Assistance Program (CFAP). CFAP will provide payments with respect to commodities that have been significantly impacted by the effects of the COVID-19 outbreak. Payments will be made with respect to only commodities produced in the United States; commodities other than livestock that are imported into the United States may not be used to determine any payment made under this part. For livestock, “produced in the United States” means physically located in the United States:

(1) On January 15, 2020, and remaining in the United States until sold for livestock sold between January 15, 2020, and April 15, 2020; or

(2) On the applicable date selected for livestock in inventory between April 16, 2020, and May 14, 2020.

* * * * *

§ 9.2 [Amended]

3. In § 9.2, in the definition of “Non-specialty crop”, remove the words “Malting barley” and add the word “Barley” in their place.

4. In § 9.5, in Table 2 to paragraph (h), remove the entry for “Barley (malting)” and add an entry in alphabetical order for “Barley”.

The addition reads as follows.

§ 9.5 Calculation of payments.

* * * * *

(h) * * *

Table 2 to Paragraph (h)—Payment Rates for Non-Specialty Crops, Dairy, Livestock, and Wool
Commodity | Unit | CARES Act payment rate ($/unit) | CCC payment rate ($/unit)
Barley | Bu | 0.34 | 0.37
* * * * * * *

* * * * *

Stephen L. Censky,
Vice Chairman, Commodity Credit Corporation, and Deputy Secretary, U.S. Department of Agriculture.

[FR Doc. 2020-20802 Filed 9-17-20; 8:45 am]

BILLING CODE 3410-05-P